SURFACE TRANSPORTATION BOARD

[Docket No. FD 36375]

Norfolk Southern Railway Company—Trackage Rights Exemption—Canton Railroad Company

Norfolk Southern Railway Company (NSR) has filed a verified notice of exemption under 49 CFR 1180.2(d)(7) for the acquisition of local trackage rights over an approximately 0.98-mile line of railroad of Canton Railroad Company (Canton Railroad) between the connection of Canton Railroad East Main Track and the NSR Bear Creek Branch at or near NSR milepost BV 1.569 and Seagirt Marine Terminal Port of Baltimore (Seagirt) in Baltimore, Md.¹

¹ A redacted version of the agreement between NSR and Canton Railroad was filed with NSR's verified notice of exemption. NSR simultaneously filed a motion for a protective order to protect the confidential and commercially sensitive information in the unredacted version of the agreement, which NSR submitted under seal. That motion will be addressed in a separate decision.

The verified notice states that the trackage rights will permit NSR to provide direct service to Seagirt.

The transaction may be consummated on or after January 16, 2020, the effective date of the exemption (30 days after the verified notice of exemption was filed).

As a condition to this exemption, any employees affected by the acquisition of trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed by January 9, 2020 (at least seven days before the exemption becomes effective).

All pleadings, referring to Docket No. FD 36375, must be filed with the Surface Transportation Board, either via e-filing or in writing addressed to 395 E Street SW, Washington, DC 20423-0001. In addition, a copy of each pleading must be served on NSR's representative, Garrett D. Urban, Norfolk Southern Corporation, Three Commercial Place, Norfolk, VA 23510.

According to NSR, this action is categorically excluded from environmental review under 49 CFR 1105.6(c), and from historic reporting under 49 CFR 1105.8(b)(3).

Board decisions and notices are available at www.stb.gov.

Decided: December 26, 2019.
By the Board, Julia M. Farr, Acting Director, Office of Proceedings.
Kenyatta Clay,
Clearance Clerk.

[FR Doc. 2019-28291 Filed 12-31-19; 8:45 am]

BILLING CODE 4915-01-P